DEPARTMENT OF STATE

[Public Notice 6841]

State-71, Post Capabilities Database

SUMMARY: Notice is hereby given that the Department of State proposes to create a system of records, Post Capabilities Database, State-71, pursuant to the provisions of the Privacy Act of 1974, as amended (5 U.S.C. 552a) and Office of Management and Budget Circular No. A-130, Appendix I. The Department's report was filed with the Office of Management and Budget on November 25, 2009.

It is proposed that the new system will be named “Post Capabilities Database.” It is also proposed that the new system will be utilized by medical and administrative personnel of the Office of Medical Services for making clearance decisions for individuals eligible to participate in the health care program and as a reference for local medical capabilities.

Any persons interested in commenting on the new system of records may do so by submitting comments in writing to Margaret P. Grafeld, Director; Office of Information Programs and Services; A/GIS/IPS; Department of State, SA-2; 515 22nd Street, Washington, DC 20522-8001. This system of records will be effective 40 days from the date of publication, unless we receive comments that will result in a contrary determination. The new system description, “Post Capabilities Database, State-71,” will read as set forth below.

Dated: November 24, 2009.
Steven J. Rodriguez,
Deputy Assistant Secretary of Operations, Bureau of Administration, U.S. Department of State.

STATE-71

System name:

Post Capabilities Database (PCD).

System location:

Department of State, Office of Medical Services, 2401 E Street, NW., Washington, DC 20522.

Categories of individuals covered by the system:

U.S. Government employees and local health care providers and facilities who might care for U.S. Government employees, both domestically and overseas.

Categories of records in the system:

Includes full name, professional degree, address to include post/city location, email and phone numbers for U.S. Government medical staff. The record includes a listing and assessment of medical services and capabilities of local non-U.S. Government facilities.

Authority for maintenance of the system:

Foreign Service Act of 1980, § 904 (22 U.S.C. 4804).

Purpose:

These records are utilized and reviewed by medical and administrative personnel of the Office of Medical Services (MED) for making clearance decisions for individuals eligible to participate in the health care program and as a reference for local medical capabilities. It is also used as a directory of MED employees working overseas.

Routine uses of records maintained in the system, including categories of users and the purposes of such uses:

Information in this database may be disclosed to other federal agencies with personnel posted overseas as a reference for medical facilities and capabilities at overseas posts. The contact information portion of the database may be shared with private sector entities when required as part of U.S. Embassy services or the operations of the State Department Medical Program.

The Department of State periodically publishes in the Federal Register its standard routine uses that apply to all its Privacy Act systems of records. These notices appear in the form of a Prefatory Statement. These standard routine uses apply to the Post Capabilities Database, State-71.

Policies and practices for storing, retrieving, accessing, retaining, and disposing of records in the system:

Storage:

Electronic.

Retrievability:

By individual name, or by post location.

Safeguards:

All State Department users are given information system security awareness training, including the procedures for handling Sensitive But Unclassified information and personally identifiable information. Annual refresher training is mandatory. Before being granted access to the PCD, a user must first be granted access to the Department of State computer system.

Remote access to the Department of State network from non-Department owned systems is only authorized through Department approved access program. Remote access to the network is in compliance with the Office of Management and Budget Memorandum M-07-16 security requirements of two factor authentication and time out function.

All U.S. Government employees and contractors with authorized access have undergone a thorough background security investigation. Access to the Department of State, its annexes and posts overseas is controlled by security guards and admission is limited to those individuals possessing a valid identification card or individuals under proper escort. Access to computerized files is password-protected and under the direct supervision of the system manager. The system manager has the capability of printing audit trails of access from the computer media, thereby permitting regular and ad hoc monitoring of computer usage.

When it is determined that a user no longer needs access, the user account is disabled.

Retention and disposal:

Records are revised and updated frequently. More specific information may be obtained by writing the Director of Informatics, Office of Medical Services, 2401 E Street, NW., Washington, DC 20522.

System manager(s) and address:

Executive Officer, Medical Services, Room 2270, Department of State, 2401 E Street, NW., Washington, DC 20522.

Notification procedure:

Individuals who have cause to believe that the Office of Medical Services might have records pertaining to them should write to MED/Informatics, Office of Medical Services, Department of State, 2401 E Street, NW., Washington, DC 20522. The individual must include: Name; current mailing address and zip code; signature; and the location of practice overseas.

Record access procedures:

Individuals who wish to receive copies of records pertaining to them should write to the Director of Informatics (Address above).

Contesting record procedures:

(See Record access procedure, above.)

Record source categories:

Information contained in these records comes from the individual subjects and from medical professionals employed by the Department of State.

System exempted from certain provisions under the Privacy Act:

None.

[FR Doc. E9-29452 Filed 12-9-09; 8:45 am]

BILLING CODE 4710-24-P